DEPARTMENT OF VETERANS AFFAIRS

Advisory Committee on Women Veterans, Notice of Meeting

The Department of Veterans Affairs gives notice under Public Law 92-463 that a meeting of the Advisory Committee on Women Veterans (Committee) will be held on June 26-27, 2000, at the Department of Veterans Affairs, 810 Vermont Avenue, NW, Room 230, Washington, DC. On June 26, the meeting will begin at 9:00 a.m. and adjourn at 5:00 p.m. On June 26, the meeting will begin at 9:00 a.m. and adjourn at 5:00 p.m. On June 27, the meeting will begin at 9:00 a.m. and adjourn at 12 noon.

The purpose of the Committee is to advise the Secretary of Veterans Affairs regarding the needs of women veterans with respect to health care, rehabilitation, compensation, outreach, and other programs and activities administered by the Department of Veterans Affairs designed to meet such needs. The Committee will make recommendations to the Secretary regarding such activities.

Both days of the meeting will be to discuss the proceedings of the National Summit on Women Veterans Issues, scheduled on June 23-25, 2000, in preparation of the Committee's annual report. All sessions will be open to the public.

Those who plan to attend should contact Ms. Maryanne Carson, Department of Veterans Affairs, Center for Women Veterans, 810 Vermont Avenue, NW, Washington, DC 20420 at (202) 273-6193.

Dated: June 5, 2000.
By Direction of the Secretary.
Marvin R. Eason,
Committee Management Officer.

[FR Doc. 00-14757 Filed 6-9-00; 8:45 am]

BILLING CODE 8320-01-M